DEPARTMENT OF JUSTICE

[OMB Number 1110-0002]

Agency Information Collection Activities; Proposed eCollection eComments Requested; Extension of a Currently Approved Collection; Supplementary Homicide Report

AGENCY: Federal Bureau of Investigation, Department of Justice.

ACTION: 60-Day notice.

SUMMARY: The Department of Justice, Federal Bureau of Investigation, Criminal Justice Information Services Division will be submitting the following information collection request to the Office of Management and Budget (OMB) for review and approval in accordance with the Paperwork Reduction Act of 1995. The proposed information collection is published to obtain comments from the public and affected agencies.

DATES: Comments are encouraged and will be accepted for 60 days until May 23, 2014.

FOR FURTHER INFORMATION CONTACT: All comments, suggestions, or questions regarding additional information, to include obtaining a copy of the proposed information collection instrument with instructions, should be directed to Mrs. Amy C. Blasher, Unit Chief, Federal Bureau of Investigation, Criminal Justice Information Services (CJIS) Division, Module E-3, 1000 Custer Hollow Road, Clarksburg, West Virginia 26306, or facsimile to (304) 625-3566.

SUPPLEMENTARY INFORMATION: This process is conducted in accordance with 5 CFR 1320.10. Written comments and suggestions from the public and affected agencies concerning the proposed collection of information are encouraged. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Evaluate whether and if so how the quality, utility, and clarity of the information to be collected can be enhanced; and

(4) Minimize the burden of the collection of information on those who are to respond, including through the use of appropriate automated, electronic, mechanical, or other technological collection techniques of other forms of information technology, e.g., permitting electronic submission of responses.

Overview of This Information Collection

(1) Type of information collection: Extension of a currently approved collection.

(2) The title of the form/collection: Supplementary Homicide Report.

(3) The agency form number, if any, and the applicable component of the department sponsoring the collection: Form 1-704; Criminal Justice Information Services Division, Federal Bureau of Investigation, Department of Justice.

(4) Affected public who will be asked or required to respond, as well as a brief abstract: Primary: City, county, state, tribal, and federal law enforcement agencies. Under Title 28, U.S. Code, 534, this information collection requests homicide data from city, county, state, tribal, and federal law enforcement agencies in order for the FBI UCR Program to serve as the national clearinghouse for the collection and dissemination of homicide data and to publish these statistics in Crime in the United States.

(5) An estimate of the total number of respondents and the amount of time estimated for an average respondent to respond: There are a potential of 18,233 law enforcement agency respondents; 11,586 for the Summary Reporting System (SRS) and 6,647 for the National Incident-Based Reporting System (NIBRS). NIBRS burden hours are collected on the NIBRS Information Collection Request. Calculated estimates for an SRS respondent to respond indicate 9 minutes per month. The total annual burden hour per respondent is 1 hour and 48 minutes.

Total Annual Hour Burden:

9 minutes × 12 months = 108/60 = 1 hour and 48 minutes

(6) An estimate of the total public burden (in hours) associated with this collection: There are approximately 20,855 hours, annual burden, associated with this information collection.

(This burden estimate does not include the 6,696 National Incident-Based Reporting System (NIBRS) agencies; the NIBRS burden hours are captured in the NIBRS Information Collection Request.)

If additional information is required contact: Jerri Murray, Department Clearance Officer, Policy and Planning Staff, Justice Management Division, United States Department of Justice, Two Constitution Square, 145 N Street NE., Room 3W-1407B, Washington, DC 20530.

Dated: March 19, 2014.
Jerri Murray,
Department Clearance Officer for PRA, United States Department of Justice.

[FR Doc. 2014-06254 Filed 3-21-14; 8:45 am]

BILLING CODE 4410-02-P